ENVIRONMENTAL PROTECTION AGENCY

40 CFR Parts 141

[EPA-HQ-OW-2022-0114; FRL 8543-04-OW]

RIN 2040-AG18

PFAS National Primary Drinking Water Regulation; Correction

AGENCY: Environmental Protection Agency (EPA).

ACTION: Final rule; correction.

SUMMARY: The U.S. Environmental Protection Agency (EPA) is correcting formatting and entry designations in a final rule that was published in the Federal Register on April 26, 2024. The rule finalized National Primary Drinking Water Regulations under the Safe Drinking Water Act for five individual per- and polyfluoroalkyl substances (PFAS): perfluorooctanoic acid (PFOA), perfluorooctane sulfonic acid (PFOS), perfluorohexane sulfonic acid (PFHxS), perfluorononanoic acid (PFNA), hexafluoropropylene oxide dimer acid (HFPO-DA, commonly known as GenX Chemicals). The rule finalized a NPDWR for two or more mixtures of PFNA, PFHXs, HFPO-DA and perfluorobutane sulfonic acid (PFBS). This document corrects formatting and entry designations in the final regulation.

DATES: Effective on June 25, 2024.

ADDRESSES: The EPA has established a docket for this action under Docket ID No. EPA-HQ-OW-2022-0114. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available electronically through https://www.regulations.gov.

FOR FURTHER INFORMATION CONTACT: Alexis Lan, Office of Ground Water and Drinking Water, Standards and Risk Management Division (Mail Code 4607M), Environmental Protection Agency, 1200 Pennsylvania Avenue NW, Washington, DC 20460; telephone number 202-564-0841; email address: PFASNPDWR@epa.gov.

SUPPLEMENTARY INFORMATION: The EPA is making several corrections for inadvertent errors in the regulatory text for the final rule:

I. Does this action apply to me?

This action makes formatting changes for the incorporation of the April 26, 2024, final PFAS National Primary Drinking Water Regulation into the Code of Federal Regulations. The agency included in the April 26, 2024, final rule a list of those entities that may be potentially affected by the final PFAS National Primary Drinking Water Regulation.

II. What does this correction do?

The EPA issued a final rule in the Federal Register on April 26, 2024 (89 CFR 32532) (FRL 8543-02-OW), finalizing National Primary Drinking Water Regulations under the Safe Drinking Water Act for PFAS: PFOA, PFOS, PFHxS, PFNA, HFPO-DA, and as well as two or more mixtures of PFNA, PFHXs, HFPO-DA and PFBS. The EPA inadvertently listed incorrect entry designations in § 141.61. This document corrects the designation of entries in the tables in § 141.61(c)(1) and § 141.61(c)(2). With the corrections to § 141.61(c)(1) and § 141.61(c)(2), the subsequent tables in § 141.61(c) are also renumbered; tables 5 and 6 are changed to tables 3 and 4. These corrections to § 141.61 are also now reflected appropriately in amendatory instructions 7 and 8. This document corrects the final regulation.

III. Why is this correction issued as final rule?

Section 553 of the Administrative Procedure Act (APA) (5 U.S.C. 553(b)(3)(B)) provides that, when an agency for good cause finds that notice and public procedure are impracticable, unnecessary, or contrary to the public interest, the agency may issue a final rule without providing notice and an opportunity for public comment. The EPA has determined that there is a good cause for making this correction final without prior proposal and opportunity for comment, because the EPA inadvertently listed the designation of entries incorrectly in § 141.61 in the document published in the Federal Register. The EPA finds that this constitutes good cause under 5 U.S.C. 553(b)(3)(B).

Corrections

In FR Doc. 2024-07773 beginning on page 32532 in the Federal Register of April 26, 2024, the EPA is making the following corrections:

§ 141.60 [Corrected]

1. On page 32744, in the third column, in § 141.60, in paragraph (a)(4), “The effective date for paragraphs (c)(34) through (40) of § 141.61 (listed in table 4 to paragraph (c)) is April 26, 2029.” is corrected to read “The effective date for § 141.61(c)(2)(i) through (vii) is April 26, 2029.”

2. On page 32744, starting in the third column, amendatory instruction 8 for § 141.61 and the accompanying regulatory text are corrected to read as follows:

8. Amend § 141.61 by:

a. In paragraph (a), revising the introductory text and adding a table heading;

b. In paragraph (b), revising the introductory text and the table heading;

c. Revising and republishing paragraph (c); and

d. Adding paragraphs (d) and (e).

The revisions and additions read as follows:

§ 141.61 Maximum contaminant levels for organic contaminants.

(a) The following maximum contaminant levels for volatile organic contaminants apply to community and non-transient, non-community water systems.

Table 1 to Paragraph (a)—Maximum Contaminant Levels for Volatile Organic Contaminants

* * * * *

(b) The Administrator, pursuant to section 1412 of the Act, hereby identifies as indicated in table 2 to this paragraph (b) granular activated carbon (GAC), packed tower aeration (PTA), or oxidation (OX) as the best technology, treatment technique, or other means available for achieving compliance with the maximum contaminant level for organic contaminants identified in paragraphs (a) and (c) of this section, except for per- and polyfluoroalkyl substances (PFAS).

Table 2 to Paragraph (b)—BAT for Organic Contaminants in Paragraphs (a) and (c) of This Section, Except for PFAS

* * * * *

(c) The following maximum contaminant levels (MCLs) in paragraphs (c)(1) and (2) of this section for synthetic organic contaminants apply to community water systems and non-transient, non-community water systems; paragraph (c)(2) of this section also contains health-based water concentrations (HBWCs) for selected per- and poly-fluoroalkyl substances (PFAS) used in calculating the Hazard Index.

(1) MCLs for Synthetic Organic Contaminants, Except for PFAS.

CAS No. | Contaminant | MCL (mg/l)
(i) 15972-60-8 | Alachlor | 0.002
(ii) 116-06-3 | Aldicarb | 0.003
(iii) 1646-87-3 | Aldicarb sulfoxide | 0.004
(iv) 1646-87-4 | Aldicarb sulfone | 0.002
(v) 1912-24-9 | Atrazine | 0.003
(vi) 1563-66-2 | Carbofuran | 0.04
(vii) 57-74-9 | Chlordane | 0.002
(viii) 96-12-8 | Dibromochloropropane | 0.0002
(ix) 94-75-7 | 2,4-D | 0.07
(x) 106-93-4 | Ethylene dibromide | 0.00005
(xi) 76-44-8 | Heptachlor | 0.0004
(xii) 1024-57-3 | Heptachlor epoxide | 0.0002
(xiii) 58-89-9 | Lindane | 0.0002
(xiv) 72-43-5 | Methoxychlor | 0.04
(xv) 1336-36-3 | Polychlorinated biphenyls | 0.0005
(xvi) 87-86-5 | Pentachlorophenol | 0.001
(xvii) 8001-35-2 | Toxaphene | 0.003
(xviii) 93-72-1 | 2,4,5-TP | 0.05
(xix) 50-32-8 | Benzo[a]pyrene | 0.0002
(xx) 75-99-0 | Dalapon | 0.2
(xxi) 103-23-1 | Di(2-ethylhexyl) adipate | 0.4
(xxii) 117-81-7 | Di(2-ethylhexyl) phthalate | 0.006
(xxiii) 88-85-7 | Dinoseb | 0.007
(xxiv) 85-00-7 | Diquat | 0.02
(xxv) 145-73-3 | Endothall | 0.1
(xxvi) 72-20-8 | Endrin | 0.002
(xvii) 1071-53-6 | Glyphosate | 0.7
(xxviii) 118-74-1 | Hexacholorbenzene | 0.001
(xxix) 77-47-4 | Hexachlorocyclopentadiene | 0.05
(xxx) 23135-22-0 | Oxamyl (Vydate) | 0.2
(xxxi) 1918-02-1 | Picloram | 0.5
(xxxii) 122-34-9 | Simazine | 0.004
(xxxiii) 1746-01-6 | 2,3,7,8-TCDD (Dioxin) | 3 × 10−⁸

(2) MCLs and HBWCs for PFAS.

CAS. No. | Contaminant | MCL (mg/l) (unless otherwise noted) | HBWC (mg/l) for Hazard Index calculation
(i) Not applicable | Hazard Index PFAS (HFPO-DA, PFBS, PFHxS, and PFNA) | 1 (unitless) ¹ | Not applicable.
(ii) 122499-17-6 | HFPO-DA | 0.00001 | 0.00001.
(iii) 45187-15-3 | PFBS | No individual MCL | 0.002.
(iv) 108427-53-8 | PFHxS | 0.00001 | 0.00001.
(v) 72007-68-2 | PFNA | 0.00001 | 0.00001.
(vi) 45285-51-6 | PFOA | 0.0000040 | Not applicable.
(vii) 45298-90-6 | PFOS | 0.0000040 | Not applicable.
¹ The PFAS Mixture Hazard Index (HI) is the sum of component hazard quotients (HQs), which are calculated by dividing the measured component PFAS concentration in water by the relevant health-based water concentration when expressed in the same units (shown in ng/l for simplification). The HBWC for PFHxS is 10 ng/l; the HBWC for HFPO-DA is 10 ng/l; the HBWC for PFNA is 10 ng/l; and the HBWC for PFBS is 2000 ng/l.

Hazard Index = ([HFPO-DAwater ng/l]/[10 ng/l]) + ([PFBSwater ng/l]/[2000 ng/l]) + ([PFNAwater ng/l]/[10 ng/l]) + ([PFHxSwater ng/l]/[10 ng/l])

HBWC = health-based water concentration

HQ = hazard quotient

ng/l = nanograms per liter

PFASwater = the concentration of a specific PFAS in water

(d) The Administrator, pursuant to section 1412 of the Act, hereby identifies in table 3 to this paragraph (d) the best technology, treatment technique, or other means available for achieving compliance with the maximum contaminant levels for all regulated PFAS identified in paragraph (c) of this section:

Table 3 to Paragraph (d)—Best Available Technologies for PFAS Listed in Paragraph (c) of This Section
Contaminant | BAT
Hazard Index PFAS (HFPO-DA, PFBS, PFHxS, and PFNA) | Anion exchange, GAC, reverse osmosis, nanofiltration.
HFPO-DA | Anion exchange, GAC, reverse osmosis, nanofiltration.
PFHxS | Anion exchange, GAC, reverse osmosis, nanofiltration.
PFNA | Anion exchange, GAC, reverse osmosis, nanofiltration.
PFOA | Anion exchange, GAC, reverse osmosis, nanofiltration.
PFOS | Anion exchange, GAC, reverse osmosis, nanofiltration.

(e) The Administrator, pursuant to section 1412 of the Act, hereby identifies in table 4 to this paragraph (e) the affordable technology, treatment technique, or other means available to systems serving 10,000 persons or fewer for achieving compliance with the maximum contaminant levels for all regulated PFAS identified in paragraph (c) of this section:

Table 4 to Paragraph (e)—Small System Compliance Technologies (SSCTs) for PFAS
Small system compliance technology ¹ | Affordable for listed small system categories ²
Granular Activated Carbon | All size categories.
Anion Exchange | All size categories.
Reverse Osmosis, Nanofiltration ³ | 3,301-10,000.
¹ Section 1412(b)(4)(E)(ii) of SDWA specifies that SSCTs must be affordable and technically feasible for small systems.
² The Act (ibid.) specifies three categories of small systems: (i) those serving 25 or more, but fewer than 501, (ii) those serving more than 500, but fewer than 3,301, and (iii) those serving more than 3,300, but fewer than 10,001.
³ “Technologies reject a large volume of water and may not be appropriate for areas where water quantity may be an issue.

Bruno Pigott,
Assistant Administrator.

[FR Doc. 2024-12645 Filed 6-10-24; 8:45 am]

BILLING CODE 6560-50-P